DEPARTMENT OF HOUSING AND URBAN DEVELOPMENT

[Docket No. FR-6210-N-04]

Notice of Regulatory Waiver Requests Granted for the Fourth Quarter of Calendar Year 2020

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2020 and ending on December 31, 2020.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2020.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2020 through December 31, 2020. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations. The lists include additional Memoranda and Notices issued regarding broad CARES Act waivers provided by HUD since the enactment of the Act on March 27, 2020. In addition, the lists provide a short, two- or three-line description of each memo or notice, identifying the specific CARES Act authority and purpose of the waivers addressed therein.

Should HUD receive additional information about waivers granted during the period covered by this report (the fourth quarter of calendar year 2020) before the next report is published (the first quarter of calendar year 2021), HUD will include any additional waivers granted for the fourth quarter in the next report.

Accordingly, information about approved waiver requests pertaining to HUD regulations is provided in the Appendix that follows this notice.

Damon Y. Smith,
Principal Deputy General Counsel.

Appendix

Listing of Waivers of Regulatory Requirements Granted by Offices of the Department of Housing and Urban Development October 1, 2020 Through December 31, 2020

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.203(a)(1) and (2), 24 CFR 92.64(a).

Project/Activity: Source documentation for HOME Investment Partnerships Program (HOME) income determinations.

Nature of Requirement: The regulations require initial income determinations for HOME beneficiaries and annual income determination for a TBRA tenant by examining source documentation covering the most recent two months.

Granted By: John Gibbs, Principal Deputy Assistant Secretary for Community Planning and Development.

Date Granted: December 4, 2020.

Reason Waived: The waiver permits participating jurisdictions, upon notifying the Department, to accept self-certification of income in lieu of source documentation to determine the eligibility for HOME assistance of persons where source documentation does not accurately reflect current income and/or when social distancing measures make submission of source documentation unduly difficult. Many families affected by actions taken to reduce the spread of COVID-19, such as business closures resulting in loss of employment or lay-offs, will not have documentation that accurately reflects current income and may not be able to qualify for HOME assistance if the requirement remains effective. Additionally, the waiver is necessary to help participating jurisdictions comply with national, state, or local health authorities' recommendations on social distancing to reduce the risk of spreading COVID-19.

Applicability: The waiver applies to individuals and families who are applying for admission to a HOME rental unit or a HOME tenant-based rental assistance program, and individuals and families that are existing tenants of HOME rental projects or current recipients of tenant-based rental assistance, who would be placed at risk or experience hardship by submission of source documentation, as determined by the participating jurisdiction, in consideration of national, state or local health authorities' COVID-19 guidelines. A participating jurisdiction that chooses to use this waiver must ensure that the income self-certification takes into consideration all income, including any unemployment and emergency benefits that the Department determines to be income under 24 CFR 5.609(c)(9). The participating jurisdiction must conduct rent and income reviews in accordance with 24 CFR 92.203(a)(1) and (2) within 120 days after the end of the extended waiver period. The participating jurisdiction must include tenant income self-certifications in each project file.

The waiver is effective from December 4, 2020, through September 30, 2021. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.203(a)(2) and 24 CFR 92.64(a) (Insular Areas).

Project/Activity: Income determinations for HOME Tenant-Based Rental Assistance (TBRA).

Nature of Requirement: The regulations require the participating jurisdiction to determine a TBRA tenant's annual income by examining at least 2 months of source documentation evidencing income and projecting anticipated income forward for the next 12 months. This waiver permits participating jurisdictions to follow the regulations at 24 CFR 92.203(a)(1)(ii) in lieu of requiring a review of source documentation. The HOME regulations at 24 CFR 92.203(a)(1)(ii) allow the participating jurisdiction to obtain a written statement of the amount of the family's anticipated annual income and household size, along with a certification that the information is complete and accurate.

Granted By: John Gibbs, Principal Deputy Assistant Secretary for Community Planning and Development.

Date Granted: December 4, 2020.

Reason Waived: Given the economic disruptions caused by the COVID-19 pandemic, source documentation from the past two months may not reflect the current financial circumstances of many households. Requiring participating jurisdictions to determine an individual's annual income using source documentation would be administratively burdensome, may not reflect current or anticipated income, and may result in individuals or families being incorrectly disqualified from receiving TBRA. In addition, social distancing measures may make submission of source documentation unduly difficult.

Applicability: This waiver is applicable to TBRA provided to individuals or families experiencing financial hardship. This requirement is waived through September 30, 2021, for tenant-based rental assistance provided in response to the COVID-19 pandemic. The participating jurisdiction must ensure that the tenant's self-certification indicates how the tenant's financial situation has changed, (i.e., job loss or reduced wages), and includes all income, including any unemployment and emergency benefits that the Department determines to be income under 24 CFR 5.609(c)(9).

If the household will continue to receive TBRA beyond the waiver period, the participating jurisdiction must determine the household's income eligibility in accordance with 24 CFR 92.203(a)(2) prior to executing a new TBRA contract. The participating jurisdiction must include tenant income certifications in each project file. This waiver is effective from the date of this memorandum and remains in effect through the end of the waiver period.

Contact: Virginia Sardone, Director, Office of Affordable Housing Programs, Office of Community Planning and Development, Department of Housing and Urban Development, 451 Seventh Street SW, Room 7160, Washington, DC 20410, telephone (202) 708-2684.

• Regulation: 24 CFR 92.205(e)(2) and 24 CFR 92.64(a).

Project/Activity: Four-year project completion deadline.

Nature of Requirement: The regulations require that projects assisted with HOME funds be completed within four years of the date that HOME funds were committed. If the project is not complete, in accordance with the definition of “project completion” at 24 CFR 92.2, by the deadline, the project is involuntarily terminated in HUD's Integrated Data Information System (IDIS), and the participating jurisdiction must repay all funds invested in the project. The regulations permit a participating jurisdiction to request an extension of the deadline for up to one-year. 24 CFR 92.64(a) applies these requirements to Insular Areas.

Granted By: John Gibbs, Principal Deputy Assistant Secretary for Community Planning and Development.

Date Granted: December 4, 2020.

Reason Waived: This waiver is necessary to provide additional time to permit completion of HOME-assisted projects that may be delayed due the effect of COVID-19 on project timelines.

Applicability: This waiver applies to projects with 4-year project completion deadlines that occurred or will occur on after April 10, 2020, including projects with deadlines that were extended for one-year pursuant to an approved request under 24 CFR 92.205(e)(2) if such extension was in effect on or after April 10, 2020. The completion deadlines for covered projects are extended to September 30, 2021. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(a) and (h) and 24 CFR 92.64(a).

Project/Activity: Eligible tenant-based rental assistance costs and maximum TBRA subsidy.

Nature of Requirement: The regulations state that eligible TBRA costs include rental assistance and security deposit payments made to income-eligible households. Participating jurisdictions can also use HOME funds to provide utility deposit assistance if such assistance is provided in conjunction with TBRA or a security deposit payment. The amount of monthly utility costs included in TBRA is limited by the utility allowance established by the participating jurisdiction for its TBRA program. The maximum amount of monthly assistance may not exceed the difference between the participating jurisdiction's rent standard and 30 percent of the tenant's monthly adjusted income. The participating jurisdiction must establish a minimum tenant contribution to rent, and a rent standard that is based on local market conditions or the subsidy standards under the Section 8 Housing Choice Voucher Program. The HOME regulations at 24 CFR 92.64(a) apply these requirements to Insular Areas.

This waiver allows participating jurisdictions to pay the full cost of monthly utilities in addition to rental assistance and security deposit payments for new and existing TBRA families affected by the COVID-19 pandemic. Participating jurisdictions may provide up to 100 percent subsidy for rent, security deposit payments, and utilities for tenants affected by a reduction or loss of income from the COVID-19 pandemic. In addition, this waiver allows participating jurisdictions to pay past-due rent and fees, including any late fees, as defined in the tenant's lease. This waiver also permits the payment of utility costs, late fees associated with overdue utilities, as well as necessary costs to restore utility service. All costs must still comply with 2 CFR part 200, subpart E, including the requirement that HOME assistance not be used to pay costs when other sources, including federal, state, or local assistance have already been provided to pay the same costs. The waiver also eliminates the need for the participating jurisdiction to establish utility allowances for different types and sizes of units for its TBRA program, which eliminates a significant administrative burden.

Granted By: John Gibbs, Principal Deputy Assistant Secretary for Community Planning and Development.

Date Granted: December 4, 2020.

Reason Waived: The COVID-19 pandemic has caused widespread loss or reduction of income, significantly affecting the financial stability of households, including existing TBRA families, and rendering many unable to pay rent and/or utilities. Households must be able to maintain the basic utilities required to ensure housing remains safe and sanitary. Permitting participating jurisdictions to use HOME funds to pay for utilities will enable affected households to maintain decent, safe, and sanitary housing, which necessarily requires electricity, water, and/or gas service during the pandemic.

As individuals experience financial hardship, the amount of assistance required to ensure they remain housed will often exceed the participating jurisdiction's payment standard. In addition, individuals may be unable to pay the participating jurisdiction's minimum required tenant contribution toward rent. Requiring participating jurisdictions to establish or revise payment standards and the minimum tenant contribution to rent policies in the current emergency would be burdensome and delay the provision of TBRA in response to the pandemic.

Applicability: This waiver is applicable to TBRA provided to individuals or families experiencing financial hardship, including existing TBRA families that have experienced a loss or reduction in income due to the COVID-19 pandemic. This requirement is waived through September 30, 2021, for rental assistance provided in response to the COVID-19 pandemic. Participating jurisdictions using this waiver authority must execute a rental assistance contract with the owner or tenant for a term mutually agreed upon by all parties, but not to exceed the waiver period ending on September 30, 2021. The waiver is available to all HOME participating jurisdictions.

The participating jurisdiction may pay past-due rent and fees, including late fees, in accordance with the tenant's lease and federal requirements, due on or after January 27, 2020, the effective date of the public health emergency declared by the Secretary of Health and Human Services for the COVID-19 pandemic until the end of the extended waiver period. Participating jurisdictions should establish a timeframe for TBRA assistance during the extended waiver period based on the circumstances in their jurisdiction. In accordance with the Coronavirus Aid, Relief, and Economic Security Act (CARES Act, Pub. L. 116-136) moratorium on fees, after the effective date of the rental assistance contract, the participating jurisdiction may not pay and an owner may not charge, any fees associated with nonpayment of rent from March 27, 2020 until after July 24, 2020. The participating jurisdiction must document the amount(s) and payment date(s) of any past-due rent and fees in the TBRA tenant file. The file should also include evidence that the fees comply with federal requirements, including the CARES Act, 2 CFR part 200, subpart E, and tenant's lease. The participating jurisdiction may make utility payments, including any past-due payments, late fees and utility restoration costs due on or after January 27, 2020, directly to the tenant or utility company based on utility bills submitted for the assisted unit, either by mail or electronically. The participating jurisdiction must document the amount(s) and payment date(s) of any utility payments and fees in the TBRA tenant file.

Contact: Virginia Sardone, Director, Office of Affordable Housing Programs, Office of Community Planning and Development, Department of Housing and Urban Development, 451 Seventh Street SW, Room 7160, Washington, DC 20410, telephone (202) 708-2684.

• Regulation: 24 CFR 92.209(e) and 24 CFR 92.64(a) (Insular Areas).

Project/Activity: Term of rental assistance contract.

Nature of Requirement: The regulations establish requirements for the term of rental assistance contracts, including that the term must begin on the first day of the term of the lease. For a rental assistance contract between a participating jurisdiction and an owner, the term of the contract must terminate upon termination of the lease. For a rental assistance contract between a participating jurisdiction and a family, the term of the contract is not required to terminate upon the termination of the lease, but no payments may be made after lease termination until the family executes a new lease. The HOME regulations at 24 CFR 92.64(a) apply these requirements to Insular Areas.

Granted By: John Gibbs, Principal Deputy Assistant Secretary for Community Planning and Development.

Date Granted: December 4, 2020.

Reason Waived: The waiver eliminates the requirement that the rental assistance contract begin on the first day of the term of the lease. This waiver is necessary to enable participating jurisdictions to assist tenants that are currently housed, including existing TBRA households, but have experienced sudden financial hardship as a result of the COVID-19 pandemic. Because affected households already have an executed lease, it is impossible for the TBRA contract to begin on the first day of the term of the lease.

Applicability: This requirement is waived through September 30, 2021, for tenant-based rental assistance (TBRA) provided in response to the COVID-19 pandemic. The participating jurisdiction's requirement to execute a rental assistance contract with the owner or tenant is not waived. Participating jurisdictions using this waiver authority must execute a rental assistance contract with the owner or tenant for a term mutually agreed upon by all parties, but not to exceed the waiver period. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(f) and 24 CFR 92.64(a).

Project/Activity: HOME TBRA rent reasonableness.

Nature of Requirement: The regulations require that a participating jurisdiction must disapprove a lease if the rent is not reasonable, based on an assessment of rents charged for comparable unassisted rental units. The HOME regulations at 24 CFR 92.64(a) applies this requirement to Insular Areas.

Granted By: John Gibbs, Principal Deputy Assistant Secretary for Community Planning and Development.

Date Granted: December 4, 2020.

Reason Waived: The waiver permits participating jurisdictions to provide immediate rental assistance without requiring an assessment of rents charged for comparable unassisted rental units. Given the unprecedented need for rental assistance for individuals facing financial hardship during the pandemic, requiring participating jurisdictions to conduct a rent comparison prior to providing rental assistance presents an undue administrative burden.

Applicability: The waiver is applicable to TBRA provided to individuals and tenant households experiencing financial hardship because of a reduction or loss of income. The requirement is waived through September 30, 2021. Participating jurisdictions using this waiver authority must execute a rental assistance contract with the owner or tenant. The waiver is available to all participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.209(g) and 24 CFR 92.64(a).

Project/Activity: HOME TBRA tenant protections—lease.

Nature of Requirement: The regulations require that each HOME-assisted tenant have a lease that complies with the tenant protection requirements of 24 CFR 92.253(a) and (b). In accordance with 24 CFR 92.253(a), there must be a lease between the tenant and the owner of rental housing assisted with HOME TBRA. The lease must have a term of not less than one year, unless both parties mutually agree to a shorter period. The lease cannot contain any of the prohibited lease terms defined in 24 CFR 92.253(b). The HOME regulations at 24 CFR 92.64(a) apply these requirements to Insular Areas.

Granted By: John Gibbs, Principal Deputy Assistant Secretary for Community Planning and Development.

Date Granted: December 4, 2020.

Reason Waived: The waiver permits participating jurisdictions to assist individuals currently housed but facing financial hardship, where an executed lease is already in place. During the COVID-19 pandemic, participating jurisdictions may assist individuals that are already in rental units but are unable to pay rent and/or utilities due to job loss or reduced wages. These individuals already have an executed lease that may include one or more of the prohibited lease terms included in 24 CFR 92.253(b). Requiring participating jurisdictions to immediately execute or amend leases creates an undue administrative burden and may disqualify some in-place tenants from receiving TBRA.

Applicability: In response to the COVID-19 pandemic, the requirement that a tenant assisted by TBRA have a lease that complies with the requirements of 24 CFR 92.253(b) is waived through September 30, 2021, for rental assistance provided to tenants already housed who have an executed lease. The participating jurisdictions using this waiver authority are required to execute a rental assistance contract with the tenant for a term mutually agreed upon by all parties, but not to exceed the waiver period ending on September 30, 2021. The lease provisions at 24 CFR 92.253(a) are not waived. A household receiving TBRA must have an executed lease with the project owner for a term of not less than one year, unless both parties agree to a shorter term. In addition, the participating jurisdiction must still comply with all VAWA requirements contained in 24 CFR 92.359 by including, at a minimum, a lease addendum that addresses all VAWA requirements.

Contact: Virginia Sardone, Director, Office of Affordable Housing Programs, Office of Community Planning and Development, Department of Housing and Urban Development, 451 Seventh Street SW, Room 7160, Washington, DC 20410, telephone (202) 708-2684.

• Regulation: 24 CFR 92.209(i) and 24 CFR 92.64(a).

Project/Activity: HOME TBRA housing quality standards.

Nature of Requirement: The regulations require that all housing occupied by households receiving HOME TBRA must meet the housing quality standards (HQS) at 24 CFR 982.401. The participating jurisdiction is required to inspect the unit for compliance prior to occupancy and annually thereafter. The HOME regulations at 24 CFR 92.64(a) apply these requirements to Insular Areas.

Granted By: John Gibbs, Principal Deputy Assistant Secretary for Community Planning and Development.

Date Granted: December 4, 2020.

Reason Waived: The COVID-19 pandemic has created an unprecedented need for rental assistance for tenant households facing financial hardship. Participating jurisdictions must act quickly to address these needs and requiring HQS inspections of all units where HOME TBRA assistance is provided would create an administrative burden and reduce participating jurisdictions' ability to respond timely to the housing needs created by the pandemic. In addition, requiring initial HQS inspections would increase housing inspectors' risk of contracting or spreading the COVID-19 virus.

Applicability: This waiver is applicable to TBRA provided to tenant households experiencing financial hardship. This requirement is waived through September 30, 2021, for rental assistance provided in response to the COVID-19 pandemic. The lead-safe housing requirements of 24 CFR part 35, subpart M, made applicable to units leased by recipients of HOME TBRA by the HOME regulation at 24 CFR 92.355, cannot be waived. Consequently, units built before 1978 must undergo visual evaluation and paint repair in accordance with 24 CFR part 35, subpart M. Participating jurisdictions using this waiver authority must establish procedures to minimize the risk that tenants are in housing that does not meet HQS. If TBRA to the household will continue beyond September 30, 2021, the participating jurisdiction must conduct an HQS Inspection, in accordance with the HOME requirements at 24 CFR 92.209(i), prior to executing a new TBRA contract.

Contact: Virginia Sardone, Director, Office of Affordable Housing Programs, Office of Community Planning and Development, Department of Housing and Urban Development, 451 Seventh Street SW, Room 7160, Washington, DC 20410, telephone (202) 708-2684.

• Regulation: 24 CFR 92.210(a) and (b) and 24 CFR 92.64(a).

Project/Activity: Use of HOME funds for operating reserves for troubled HOME projects.

Nature of Requirement: The regulations establish provisions to permit HOME rental projects that are not financially viable (i.e., projects for which operating costs significantly exceed operating revenue) to be the preserved through the use of HOME funds to recapitalize project reserves. The regulations also require HUD to review market needs, available resources, and the likelihood of long-term viability of the project before approving this use of HOME funds. In addition, a written memorandum of agreement between HUD and the participating jurisdiction is a precondition of this funding and the regulation places certain limitations on the amount of funding. 24 CFR 92.64(a) applies these requirements to Insular Areas.

Granted By: John Gibbs, Principal Deputy Assistant Secretary for Community Planning and Development.

Date Granted: December 4, 2020.

Reason Waived: The waiver is necessary to enable participating jurisdictions to take rapid action to preserve the financial viability of HOME-assisted affordable rental projects currently under a HOME period of affordability. Because existing tenants in HOME units may be unable to meet their rent obligations due to the economic impact of the COVID-19 pandemic, HOME rental projects may experience operating deficits due to the sudden decrease in rental revenue. The waiver is also necessary to enable participating jurisdictions to recapitalize operating reserves to account for increased operating costs related to the COVID-19 pandemic, such as lost revenue due to the closure of amenities and/or more intensive cleaning and disinfection of common areas.

Applicability: The waiver applies to HOME-assisted rental projects currently within the period of affordability established in the HOME written agreement. Participating jurisdictions will not be required to obtain HUD approval or execute a memorandum of agreement with HUD before providing this assistance. Participating jurisdiction may only exercise this waiver authority when the project owner agrees to forego: (1) Any distributions of residual receipts resulting from the project throughout the waiver period and for a period of 6 months thereafter; (2) any right under the existing lease agreement or State or local law to pursue legal action against tenants of HOME-assisted units for non-payment of rent and the collection of any fees associated with late payments without prior approval of the participating jurisdiction; and (3) any adverse credit reporting against tenants of HOME-assisted units for nonpayment of rent or fees without prior approval of the participating jurisdiction. To clarify, per the waiver and 2 CFR part 200 requirements, costs paid for by other sources are ineligible and cannot be paid for by HOME funds. Private sources include rent received from HOME-assisted tenants. To prevent the misuse of HOME funds to pay for costs paid with other sources and to maintain the eligibility of costs paid for by HOME assistance, the owner must reduce the amount of any back rent owed by tenants by the amount of HOME operating reserve assistance deposits. The amount expended to pay operating reserve assistance must not exceed the share of operating costs attributable to the HOME-assisted units. If the owner pursues and receives back rent from a HOME-assisted tenant, the owner must repay the amount of operating reserve assistance equal to the amount of back rent received.

The participating jurisdiction may provide additional HOME funds to recapitalize operating deficit reserves for HOME-assisted rental projects if the participating jurisdiction determines that the project is experiencing operating deficits related to the economic effects of the COVID-19 pandemic during the waiver period. The participating jurisdiction may only provide this assistance to projects experiencing operating deficits that will not be covered by insurance or other sources (e.g., other private, local, state, or federal funds). The maximum amount of HOME assistance that may be provided is equal to the total of the project's operating expenses, previously scheduled payments to a replacement reserve, and actual debt service (excluding debt service of loans in forbearance) multiplied by the proportionate share of HOME-assisted units to the total number of units in the project for the period beginning on April 1, 2020 to September 30, 2021.

Project operating expenses may be demonstrated by one of the following: Owner's most recent year-to-date financials for the project; Certified project-level accounting records covering the most recent 3 months; or Copies of project-level bank statements covering the most recent 3 months. Project operating expenses may also be adjusted due to COVID-19-related expenditures and foregone expenses due to social distancing measures and other COVID-19-related impacts. An owner may demonstrate these expenses with recent receipts, copies of work orders, revised budgets that have been certified by the project owner as true, accurate representations of current expenditures. In order to take advantage of this waiver, participating jurisdictions must amend the HOME written agreement with the project owner to include the amount of HOME funds that will be provided to an operating reserve (i.e., the proportion of total costs attributable to HOME units as described in the paragraph above), the costs eligible to be paid with HOME funds in the operating reserve (i.e., operating expenses, scheduled payments to a replacement reserve, and qualifying debt service), and the documentation the participating jurisdiction is required to maintain to demonstrate the allowable amounts and eligibility of costs paid with the HOME funds in the operating reserve. The written agreement must specify that the owner must forego: (1) Any distributions of residual receipts during the period this waiver is in effect and for a period of 6 months thereafter; (2) any right under the existing lease agreement or State or local law to pursue legal action against tenants of HOME-assisted units for non-payment of rent and the collection of any fees associated with late payments without prior approval of the participating jurisdiction; and (3) any adverse credit reporting against tenants of HOME-assisted units for nonpayment of rent or fees without prior approval of the participating jurisdiction. Within 6 months following the waiver period, the participating jurisdiction must review the project's records of actual revenue and operating expenses, total amount of HOME funds expended from the operating reserve, and the eligibility of expenses by examining invoices and receipts. The written agreement must require the project owner to repay any expenditures for costs determined to be ineligible (which includes costs paid for by other sources) and any balance of HOME funds remaining in the reserve after the extended waiver period. Any HOME funds repaid to the participating jurisdiction must be deposited in the local HOME account and reported as program income in IDIS. The waiver is effective through September 30, 2021.

The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.252(h) and 24 CFR 92.64(a) (Insular Areas).

Project/Activity: Source documentation for income re-examinations.

Nature of Requirement: The regulations require re-examination of income of each tenant using source documentation in accordance with § 92.203(a)(1)(i) in every sixth year of the affordability period where an owner of a multifamily project with an affordability period of 10 years of more re-examine tenant's annual income through a statement and certification in accordance with § 92.203(a)(1)(ii). 24 CFR 92.64(a) applies these requirements to Insular Areas.

Granted By: John Gibbs, Principal Deputy Assistant Secretary for Community Planning and Development.

Date Granted: December 4, 2020.

Reason Waived: This waiver permits the use of self-certification of income, as provided at § 92.203(a)(1)(ii), in lieu of source documentation to re-examine the income of tenants residing in a HOME multifamily project with a period of affordability of 10 years or more, if the reexamination of tenant income required in every sixth year of the project's period of affordability occurs on or before September 30, 2021.

This waiver is necessary because source documentation may not accurately reflect the current income of existing tenants and/or social distancing measures may make submission of source documentation unduly difficult. Many families affected by actions taken to reduce the spread of COVID-19, such as business closures resulting in loss of employment or lay-offs, will not have documentation that accurately reflects current income and will not be able to qualify for HOME assistance if the requirement remains in effect. Additionally, the waiver is necessary to help participating jurisdictions comply with national, state, or local health authorities' recommendations on social distancing to reduce the risk of spreading COVID-19.

Applicability: This waiver applies to an owner of a HOME multifamily rental project with a period of affordability of 10 years or more to use self-certification of income if a reexamination of tenant income required in every sixth year of the project's period of affordability occurs on or before September 30, 2021. This is to accommodate a tenant with source documentation that does not accurately reflect current income and/or where individuals and families would be placed at risk or experience hardship by submission of source documentation to the owner, as determined by the participating jurisdiction, in consideration of national, state or local health authorities' COVID-19 guidelines. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.254(a)(3) and 24 CFR 92.64(a).

Project/Activity: Nine-month deadline for sale of HOME-assisted homebuyer units.

Nature of Requirement: The regulations require that a homebuyer housing unit developed with HOME funds have a ratified contract for sale to an eligible homebuyer within nine months of the date of completion of construction or rehabilitation. If there is no ratified sales contract with an eligible homebuyer within 9 months of completion of construction or rehabilitation, the housing must be rented to an eligible tenant in accordance with § 92.252. 24 CFR 92.64(a) applies these requirements to Insular Areas.

Granted By: John Gibbs, Principal Deputy Assistant Secretary for Community Planning and Development.

Date Granted: December 4, 2020.

Reason Waived: Many participating jurisdictions will not be able to meet this deadline due to the effect the COVID-19 pandemic will have on the ability of eligible households to qualify for mortgages as a result of income losses or the inability to schedule inspections, title searches, or closings during periods of business closures. The waiver is necessary to prevent the loss of homeownership opportunities for HOME-eligible families and temporarily suspend the required corrective action of repayment of HOME funds or conversion of the homebuyer units to rental housing.

Applicability: The waiver applies to projects for which the nine-month homebuyer sale deadline occurs on or after the date of this memorandum and extends the deadline for those projects to September 30, 2021. The waiver is available to all HOME participating jurisdictions. This waiver does not apply to the remaining requirements of the regulation, including that a homebuyer must receive housing counseling, and that a participating jurisdiction must determine eligibility of a family by including the income of all persons living in the housing.

Contact: Virginia Sardone, Director, Office of Affordable Housing Programs, Office of Community Planning and Development, Department of Housing and Urban Development, 451 Seventh Street SW, Room 7160, Washington, DC 20410, telephone (202) 708-2684.

• Regulation: 24 CFR 92.504(d)(1)(ii) and 24 CFR 92.64(a).

Project/Activity: On-site inspections of HOME-assisted rental housing.

Nature of Requirement: The regulations require that during the period of affordability participating jurisdictions perform on-site inspections of HOME-assisted rental housing at least once every three years to determine compliance with the property standards and to verify the information submitted by the owners in accordance with the income and rent requirements. 24 CFR 92.64(a) applies these requirements to Insular Areas.

Granted By: John Gibbs, Principal Deputy Assistant Secretary for Community Planning and Development.

Date Granted: December 4, 2020.

Reason Waived: Waiving the requirement to perform ongoing on-site inspections will help protect participating jurisdiction staff and limit the spread of COVID-19. To protect participating jurisdiction staff and reduce the spread of COVID-19, this waiver extends the timeframe for participating jurisdictions to perform on-going periodic inspections and on-site reviews to determine a HOME rental project's compliance with property standards and rent and income requirements.

Applicability: The waiver is applicable to ongoing periodic inspections and does not waive the requirement to perform initial inspections of rental properties upon completion of construction or rehabilitation. Within 120 days of the end of this waiver period, participating jurisdictions must physically inspect units that would have been subject to on-going inspections during the waiver period. The waiver is also applicable to on-site reviews to determine a HOME rental project's compliance with rent and income requirements if the project owner is unable to make documentation available electronically. The waiver is in effect through September 30, 2021. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.504(d)(1)(iii); 24 CFR 92.209(i) and 24 CFR 92.64(a).

Project/Activity: Housing Quality Standards—Initial and annual inspection of units occupied by recipients of HOME tenant-based rental assistance (TBRA).

Nature of Requirement: The regulations require participating jurisdictions to initially inspect each unit to be occupied by a recipient of HOME TBRA and annually re-inspect each unit occupied by a recipient of HOME TBRA. 24 CFR 92.64(a) applies these requirements to Insular Areas.

Granted By: John Gibbs, Principal Deputy Assistant Secretary for Community Planning and Development.

Date Granted: December 4, 2020.

Reason Waived: Waiving the requirement that HQS inspections be performed before a HOME TBRA recipient leases and occupies a rental unit and annually re-inspect according to schedule will protect the health of both inspectors and TBRA tenants by observing physical distancing recommendations to limit the spread of COVID-19.

Applicability: The waiver is applicable to initial and annual housing quality standards inspections required to occur from April 10, 2020, through September 30, 2021. The waiver is available to all HOME participating jurisdictions.

Participating jurisdictions using this waiver authority for families assisted under TBRA are not required to inspect for compliance with HQS in accordance with 24 CFR 982.401. Participating jurisdiction shall make reasonable efforts to address any tenant-reported health and safety issues during the waiver period. At the conclusion of the extended waiver period, all housing occupied by households receiving HOME TBRA must meet the housing quality standards (HQS) at 24 CFR 982.401. However, this waiver does not apply to the requirements at 24 CFR 35.1215. Consequently, units built before 1978 must undergo visual evaluation and paint repair in accordance with 24 CFR part 35, subpart M. Participating jurisdictions using this waiver authority must establish procedures to minimize the risk that tenants are in housing that does not meet HQS.

Contact: Virginia Sardone, Director, Office of Affordable Housing Programs, Office of Community Planning and Development, Department of Housing and Urban Development, 451 Seventh Street SW, Room 7160, Washington, DC 20410, telephone (202) 708-2684.

• Regulation: 24 CFR 92.504(d)(1)(iii); 24 CFR 92.209(i) and 24 CFR 92.64(a).

Project/Activity: Annual inspection of units occupied by recipients of HOME tenant-based rental assistance (TBRA).

Nature of Requirement: Provisions require participating jurisdictions to annually inspect each unit occupied by a recipient of HOME TBRA.

Granted By: John Gibbs, Principal Deputy Assistant Secretary for Community Planning and Development.

Date Granted: December 4, 2020.

Reason Waived: Waiving the requirement that annual HQS inspections be performed according to schedule will protect the health of both inspectors and TBRA tenants by observing physical distancing recommendations to limit the spread of COVID-19.

Applicability: The waiver is applicable to annual HQS inspections required to occur from April 10, 2020 through September 30, 2021. Participating jurisdictions using this waiver authority are not required to inspect for compliance with HQS in accordance with 24 CFR 982.401. Participating jurisdictions shall make reasonable efforts to address any tenant reported health and safety issues during the waiver period. All housing that will continue to be occupied by HOME TBRA households after the end of the extended waiver period, must be inspected for compliance with HQS prior to executing a new TBRA contract.

Contact: Virginia Sardone, Director, Office of Affordable Housing Programs, Office of Community Planning and Development, Department of Housing and Urban Development, 451 Seventh Street SW, Room 7160, Washington, DC 20410, telephone (202) 708-2684.

• Regulation: 24 CFR 92.551(b)(1) and 24 CFR 92.64(a).

Project/Activity: Timeframe for a HOME participating jurisdiction's response to findings of noncompliance.

Nature of Requirement: The regulations require that if HUD determines that a participating jurisdiction has not met a provision of the HOME regulations, the participating jurisdiction must be notified and given an opportunity to respond within a time period prescribed by HUD, not to exceed 30 days. 24 CFR 92.64(a) applies this requirement to Insular Areas.

Granted By: John Gibbs, Principal Deputy Assistant Secretary for Community Planning and Development.

Date Granted: December 4, 2020.

Reason Waived: The waiver is necessary to permit HUD to provide participating jurisdictions with an extended period to respond to findings of noncompliance in recognition of the unanticipated circumstances created by the COVID-19 pandemic. Requiring participating jurisdictions to respond to all findings of noncompliance within 30 days may interfere with a participating jurisdiction's ability to address the unprecedented housing needs caused by the COVID-19 pandemic.

Applicability: The waiver applies to all findings of HOME regulatory noncompliance issued from April 10, 2020, through September 30, 2021. In the notice of findings, HUD will specify a time period for the participating jurisdiction's response. HUD may also extend time periods imposed before April 10, 2020. The waiver is available to all HOME participating jurisdictions.

Contact: Virginia Sardone, Director, Office of Affordable Housing Programs, Office of Community Planning and Development, Department of Housing and Urban Development, 451 Seventh Street SW, Room 7160, Washington, DC 20410, telephone (202) 708-2684.

• Regulation: 24 CFR 92.252(d)(1) Utility Allowance Requirements.

Project/Activity: The County of Santa Clara, the City of Mountain View, and the County of San Luis Obispo, California, requested a waiver of 24 CFR 92.252(d)(1) to allow use of the utility allowance established by a local public housing agency (PHA) for three HOME-assisted projects: Orchard Ranch Apartments in Santa Clara County, Shorebreeze II Family Apartments in Mountain View, and Courtyard at the Meadows in San Luis Obispo County.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: John Gibbs, Principal Deputy Assistant Secretary for Community Planning and Development.

Date Granted: November 17, 2020.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Department of Housing and Urban Development, 451 Seventh Street SW, Room 7160, Washington, DC 20410, telephone (202) 402-4606.

• Regulation: 24 CFR 578.3, definition of permanent housing, 24 CFR 578.51(1)(1).

Project/Activity: The one-year lease requirement is waived for leases executed between the date of this memorandum and March 31, 2021, so long as the initial term of all leases is at least one month.

Nature of Requirement: Program participants residing in PSH must be the tenant on a lease for a term of at least one year that is renewable and terminable for cause.

Granted By: John Gibbs, Acting Assistant Secretary for Community Planning and Development.

Date Granted: December 29, 2020.

Reason Waived: HUD originally waived this requirement for 6-months on March 31, 2020 and again until December 31, 2020 on September 30, 2020 to help recipients more quickly identify permanent housing for individuals and families experiencing homelessness, which is helpful in preventing the spread of COVID-19. Extending this waiver is necessary because recipients continue to need to help program participants identify housing quickly to help prevent the spread of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.33(c).

Project/Activity: The requirement that the renewal grant amount be based on the budget line items in the final year of the grant being renewed is further waived for all projects that amend their grant agreement between January 1, 2021 and March 31, 2021 to move funds between budget line items in a project in response to the COVID-19 pandemic. Recipients may then apply in the next FY CoC Program funding cycle based on the budget line items in the grants before they were amended.

Nature of Requirement: 24 CFR 578.33(c) requires that budget line item amounts a recipient is awarded for renewal in the CoC Program Competition will be based on the amounts in the final year of the prior funding period of the project.

Granted By: John Gibbs, Acting Assistant Secretary for Community Planning and Development.

Date Granted: December 29, 2020.

Reason Waived: HUD originally waived this requirement for grant agreement amendments signed between March 31, 2020 and October 1, 2020 to allow recipients to move funds between budget line items in a project in response to the COVID-19 pandemic and still apply for renewal in the next FY CoC Program funding cycle based on the budget line items in the grants before they were amended. HUD again waived this requirement for all grant agreements signed from October 1, 2020 until December 31, 2020. Recipients continue to report needing to shift budget line items to respond to the COVID-19 pandemic (e.g., providing different supportive service necessitated by the pandemic or serving fewer people because the layout of the housing does not meet local social distancing recommendations) without changing the original design of the project when it is not operating in a public health crisis and can resume normal operations.

Contact: Norm Suchar, Director, Office of Special Needs Assistance Programs, Office of Community Planning and Development, Department of Housing and Urban Development, 451 Seventh Street SW, Room 7262, Washington, DC 20410, telephone (202) 708-4300.

• Regulation: 24 CFR 578.37(a)(l)(ii)(F).

Project/Activity: The requirement in 24 CFR 578.37(a)(1)(ii)(F) that projects require program participants to meet with case managers not less than once per month is waived for all permanent housing-rapid re-housing projects until March 31, 2021.

Nature of Requirement: Recipients must require program participants of permanent housing-rapid re-housing projects to meet with a case manager at least monthly.

Granted By: John Gibbs, Acting Assistant Secretary for Community Planning and Development.

Date Granted: December 29, 2020.

Reason Waived: HUD originally waived this requirement for 2-months on March 31, 2020. On May 22, 2020 HUD again waived this requirement for an additional 3 months and on September 30, 2020 HUD once again waived this requirement until December 31, 2020. Recipients are continuing to report limited staff capacity as staff members are home for a variety of reasons related to COVID-19 (e.g., quarantining, children home from school, working elsewhere in the community to manage the COVID-19 response). In addition, not all program participants have capacity to meet via phone or internet. Waiving the monthly case management requirement as specified below will allow recipients to provide case management on an as needed basis and reduce the possible spread and harm of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.49(b)(2).

Project/Activity: The Fair Market Rent (FMR) restriction continues to be waived for any lease executed by a recipient or subrecipient to provide transitional or permanent supportive housing until March 31, 2021. The affected recipient or subrecipient must still ensure that rent paid for individual units that are leased with leasing dollars meet the rent reasonableness standard in 24 CFR 578.49(b)(2).

Nature of Requirement: Rent payments for individual units with leasing dollars may not exceed (FMR).

Granted By: John Gibbs, Acting Assistant Secretary for Community Planning and Development.

Date Granted: December 29, 2020.

Reason Waived: HUD originally waived this requirement for 6-months on March 31, 2020. On September 30, 2020 HUD again waived this requirement until December 31, 2020. Extending this waiver of the limit on using grant leasing funds to pay above FMR for individual units, but not greater than reasonable rent, will assist recipients in locating additional units to house individuals and families experiencing homelessness and reduce the spread and harm of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.75(b)(1).

Project/Activity: The waiver of the requirement in 24 CFR 578.75(b)(1) that the recipient or subrecipient physically inspect each unit to assure that the unit meets Housing Quality Standards (HQS) before providing assistance on behalf of a program participant is in effect until March 31, 2021 for recipients and subrecipients that are able to obtain certification from the owner that they have no reasonable basis to have knowledge that life-threatening conditions exist in the unit or units in question; and the recipient or subrecipient has written policies to physically inspect the unit within 3 months after the health officials determine special measures to prevent the spread of COVID-19 are no longer necessary.

Nature of Requirement: 24 CFR 278.75(b)(1) requires that recipients or subrecipients physically inspect each unit to assure that it meets HQS before any assistance will be provided for that unit on behalf of a program participant.

Granted By: John Gibbs, Acting Assistant Secretary for Community Planning and Development.

Date Granted: December 29, 2020.

Reason Waived: On March 31, 2020, HUD waived the physical inspection requirement at 24 CFR 578.75(b)(l) for 6-months so long as recipients or subrecipients were able to visually inspect the unit using technology to ensure the unit met HQS before any assistance was provided and recipients or subrecipients had written policies in place to physically reinspect the unit within 3 months after the health officials determined special measures to prevent the spread of COVID-19 are no longer necessary. However, this standard still relies on program participants or landlords having the technology to carry out this virtual inspection. Waiving the initial inspection requirement at 24 CFR 578.75(b)(l) as further specified below will allow recipients to move people from the streets and shelters into housing more quickly, which enables social distancing, and helps prevent the spread of COVID-19.

Contact: Norm Suchar, Director, Office of Special Needs Assistance Programs, Office of Community Planning and Development, Department of Housing and Urban Development, 451 Seventh Street SW, Room 7262, Washington, DC 20410, telephone (202) 708-4300.

• Regulation: 24 CFR 578.75(c) and 24 CFR 982.401(d)(2)(ii) as required by 24 CFR 578.75(b)

Project/Activity: The requirement that each unit assisted with CoC Program funds or YHDP funds have at least one bedroom or living/sleeping room for each two persons is waived for recipients providing Permanent Housing-Rapid Rehousing assistance for leases and occupancy agreements executed by recipients and subrecipients between the date of this memorandum and March 31, 2021 and extending only until the later of (1) the end of the initial term of the lease or occupancy agreement; or (2) March 31, 2021. Recipients are still required to follow State and local occupancy laws.

Nature of Requirement: 24 CFR 578.75(c), suitable dwelling size, and 24 CFR 982.401(d)(2)(ii) as required by 24 CFR 578.75(b), Housing Quality Standards, requires units funded with CoC Program funds to have at least one bedroom or living/sleeping room for each two persons.

Granted By: John Gibbs, Acting Assistant Secretary for Community Planning and Development.

Date Granted: December 29, 2020.

Reason Waived: On September 30, 2020, HUD waived the requirements at 24 CFR 982.401(d)(2)(ii) and 24 CFR 578.75(c) to allow households experiencing homelessness to obtain permanent housing that is affordable and that they assess is adequate. Recipients continue to report that households experiencing homelessness remain unable to afford the limited supply of affordable housing in many jurisdictions across the country and this has been made even more challenging due to the economic impact of COVID-19. HUD is waiving the requirements at 24 CFR 982.401(d)(2)(ii) and 24 CFR 578.75(c) as further specified below to reduce the spread of COVID-19 by allowing households to move into housing instead of staying in congregate shelter. Consistent with the Executive Order on Fighting the Spread of COVID-19 by Providing Assistance to Renters and Homeowners, grantees should balance use of this waiver with the recommendations of public health officials to limit community spread and reduce risks to high-risk populations. For example, a large unit with rooms than can be partitioned for privacy and distancing, or the waiver can be applied for units that will house only one family household.

Contact: Norm Suchar, Director, Office of Special Needs Assistance Programs, Office of Community Planning and Development, Department of Housing and Urban Development, 451 Seventh Street SW, Room 7262, Washington, DC 20410, telephone (202) 708-4300.

• Regulation: 24 CFR 578.103(a)(7)(iv).

Project/Activity: The waiver of the requirement at 24 CFR 578.103(a)(7)(iv) that the recipient or subrecipient may only rely on program participant self-certification of income if the other permitted types of documentation are unobtainable when conducting the initial or subsequent rent or occupancy charge calculations is in effect until March 31, 2021. During this time, 24 CFR 578.103(a)(7)(iv) is waived to the extent necessary to allow recipients or subrecipients to document annual income with the written certification by the program participant of the amount of income that the program participant is reasonably expected to receive over the 3-month period following the evaluation, even if source documents and third-party verification, are obtainable.

Nature of Requirement: 24 CFR 578.103(a)(7) requires the recipient or subrecipient to keep records of the program participant's income and the back-up documentation they relied on to determine income. The regulation establishes an order of preference for the type of documentation that recipients can rely upon. Only if source documents and third-party verification are unobtainable is a written certification from the program participant acceptable documentation of income. HUD is waiving “To the extent that source documents and third-party verification are unobtainable” in 578.103(a)(7)(iv).

Granted By: John Gibbs, Acting Assistant Secretary for Community Planning and Development.

Date Granted: December 29, 2020.

Reason Waived: On September 30, 2020, HUD waived the requirement to attempt to document that third-party verification of income was unobtainable in order for recipients and subrecipients to a program participant's own self-certification of income until December 31, 2020 because that documentation may be difficult to obtain as a result of COVID-19 pandemic and housing program participants quickly was important to prevent the spread of COVID-19. It continues to be important to move people into their own housing quickly to enable social distancing and prevent the spread of COVID-19; therefore, waiving the requirement that source documents and third-party documentation be unobtainable in order for recipients or subrecipients to rely on a program participant's own certification of their income.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 200.73(c).

Project/Activity: New Hope Properties, Hopkinsville, Kentucky, Project No. 083-35769.

Nature of Requirement: 24 CFR 200.73(c) requiring that “not less than five rental dwelling units [of an FHA insured multifamily housing project] shall be on one site”. Section 3.1.CC of the 2016 MAP Guide permits a project with two or more non-contiguous parcels of land when the parcels comprise one marketable, manageable real estate entity. AGM Financial Services, Inc. applied for mortgage insurance under the Section 221(d)(4) substantial rehabilitation program. The proposed insured loan is estimated at $26,000,000. The project will also be financed with $20,760,447 of equity from the sale of 4% Low Income Housing Tax Credits (LIHTC), a $2,700,000 loan from the Kentucky Housing Trust Fund, and a $500,000 Affordable Housing Program loan. The Hendersonville Housing Authority (HHA) plans to convert their public housing inventory to project-based Section 8 rental housing through the Rental Assistance Demonstration (RAD) program. New Hope Properties consists of 454 affordable housing units in nine (9) developments with the nine referenced developments being located on more than 24 parcels of land.

Granted By: Dana T. Wade, Assistant Secretary for Housing—Federal Housing Commissioner.

Date Granted: November 25, 2020.

Reason Waived: The waiver will meet HUD's goal of preserving and maintaining affordable rental housing for low-income families. The project is a low risk to the Department due to its continuing availability of project Section 8 rental housing through the Rental Assistance Demonstration Program (RAD) assistance for most units.

Contact: Patricia M. Burke, Director, Office of Multifamily Production, HTD, Office of Housing, Department of Housing and Urban Development, 451 Seventh Street SW, Room 6132, Washington, DC 20410, telephone (202) 402-5693.

• Regulation: 24 CFR 200.73(c).

Project/Activity: Friends/VVA Apartments, Columbus, Ohio, Project No. 043-11259.

Nature of Requirement: 24 CFR 200.73(c) requiring that “not less than five rental dwelling units [of an FHA insured multifamily housing project] shall be on one site.” Section 3.1.CC of the 2016 MAP Guide permits a project with two or more non-contiguous parcels of land when the parcels comprise one marketable, manageable real estate entity. Orix Real Estate Capital, LLC (OREC) applied for mortgage insurance under the Section 223(f) program for Friends/VVA Apartments. Friends/VVA is a 16-unit complex owned by the nonprofit developer Columbus Housing Partnership, Inc. and is in Columbus, Ohio. It is comprised of two sites.

Granted By: Dana T. Wade, Assistant Secretary for Housing—Federal Housing Commissioner.

Date Granted: October 28, 2020.

Reason Waived: The waiver will meet HUD's goal of preserving and maintaining affordable rental housing for low-income families. Eligible tenants are very low-income elderly or disabled. The project is a low risk to the Department due to its continuing availability of project Section 8 rental housing assistance for all units.

Contact: Patricia M. Burke, Director, Office of Multifamily Production, HTD, Office of Housing, Department of Housing and Urban Development, 451 Seventh Street SW, Room 6132, Washington, DC 20410, telephone (202) 402-5693.

• Regulation: 24 CFR 203.602.

Project/Activity: Delinquency Notices to Mortgagors.

Nature of Requirement: This is a temporary waiver of the requirements in 24 CFR 203.602 for borrowers provided a COVID-19 Forbearance. This temporarily waives the requirement that a mortgagee shall give notice to any mortgagor in default no later than the end of the second month of any delinquency in payments under the mortgage during the period of the COVID-19 Forbearance.

Granted By: Dana T. Wade, Assistant Secretary for Housing—Federal Housing Commissioner.

Date Granted: December 21, 2020.

Reason Waived: This waiver has been issued to address potential confusion and uncertainty surrounding mortgage servicing policy changes enacted due to the Coronavirus Disease 2019 (COVID-19) pandemic.

Applicability: This waiver is applicable to mortgages where the Borrower is on an FHA COVID-19 Forbearance.

Contact: Elissa Saunders, Acting Director, Office of Single Family Asset Management, Office of Housing, Department of Housing and Urban Development, 451 Seventh Street SW, Room 9172, Washington, DC 20410, telephone (202) 402-2378.

• Regulation: 24 CFR 206.55(d)(1).

Project/Activity: The requirement that an Eligible Non-Borrowing Spouse for a Home Equity Conversion Mortgage (HECM) must, within 90 days from the death of the last surviving borrower, establish legal ownership or other ongoing legal right to remain for life in the property securing the HECM.

Nature of Requirement: This is a partial waiver of the requirement in 24 CFR 206.55(d)(1) that an Eligible Non-Borrowing Spouse must, within 90 days from the death of the last surviving borrower, establish legal ownership or other ongoing legal right to remain for life in the property securing the HECM.

Granted By: Dana T. Wade, Assistant Secretary for Housing—Federal Housing Commissioner.

Date Granted: October 1, 2020.

Reason Waived: This partial waiver has been issued due to public health concerns around the spread of Coronavirus Disease 2019 (COVID-19), the declaration of a National Emergency and the resulting closures of courthouses and government offices necessary to meet the requirement of 24 CFR 206.55(d)(1).

Applicability: The partial waiver does not apply to any provisions of 24 CFR 206.55 other than 24 CFR 206.55(d)(1). The partial waiver is limited to a 12-month period from the date of issuance.

• Regulation: 24 CFR 219.220(b).

Project/Activity: Superbia Retirement Village, FHA Project Number 117-SH006T, Oklahoma City, OK. The Foundation for Senior Citizens, Incorporated (Owner) seeks approval to defer repayment of the Flexible Subsidy Operating Assistance Loan on the subject project.

Nature of Requirement: The regulation at 24 CFR 219.220(b) (1995), which governs the repayment of operating assistance provided under the Flexible Subsidy Program for Troubled Projects, states “Assistance that has been paid to a project owner under this subpart must be repaid at the earlier of the expiration of the term of the mortgage, termination of mortgage insurance, prepayment of the mortgage, or a sale of the project.”

Granted By: Dana T. Wade, Assistant Secretary for Housing—Federal Housing Commissioner.

Date Granted: November 19, 2020.

Reason Waived: The owner requested and was granted waiver of the requirement to repay the Flexible Subsidy Operating Assistance Loan in full when it became due. Deferring the loan payment will preserve the affordable housing resource for an additional 35 years through the execution and recordation of a Rental Use Agreement.

Contact: Crystal Martinez, Senior Account Executive, Office of Housing, Department of Housing and Urban Development, 451 Seventh Street SW, Room 6174, Washington, DC 20410, telephone (202) 402-3718.

• Regulation: 24 CFR 266.410(e).

Project/Activity: Housing Opportunities Commission of Montgomery County (HOC) no project name or number listed.

Nature of Requirement: The 24 CFR 266.410(e), which requires mortgages insured under the 542(c) Housing Finance Agency Risk Sharing Program to be fully amortized over the term of the mortgage. The waiver would permit HOC to use balloon loans that would have a minimum term of 17 years and a maximum amortization period of 40 years for the projects identified in the “Multifamily Pipeline Projects”.

Granted By: Dana T. Wade, Assistant Secretary for Housing—Federal Housing Commissioner.

Date Granted: November 19, 2020.

Reason Waived: The waiver was granted to allow Housing Opportunities Commission of Montgomery County's (HOC) clients additional financing options to their customers and to align HOC business practices with industry standards, thus furthering the creation of a preservation of affordable housing throughout Maryland.

The regulatory waiver is subject to the following conditions:

1. The waiver is limited to ten (10) transactions and expires on December 31, 2025.

2. Housing Opportunities Commission of Montgomery County must elect to take 50 percent or more of the risk of loss on all transactions.

3. Mortgages made under this waiver may have amortization periods of up to 40 years, but with a minimum term of 17 years.

4. All other requirements of 24 CFR 266.410—Mortgage Provision remain applicable. The waiver is applicable only to loans made under Housing Opportunities Commission of Montgomery County's Risk Sharing Agreement.

5. In accordance with 24 CFR 266.200(d), the mortgage may not exceed an amount supportable by the lower of the Section 8 or comparable unassisted rents.

6. Projects must comply with Davis-Bacon labor standards in accordance with 24 CFR 266.225.

7. Housing Opportunities Commission of Montgomery County must comply with regulations stated in 24 CFR 266.210 for insured advances or insurance upon completion transactions.

8. The loans exceeding $50 million require a separate waiver request.

9. Occupancy is no less than 93 percent for previous 12 months of the HFA loan to be refinanced.

10. No defaults in the last 12 months of the HFA loan to be refinanced.

11. A 20-year affordable housing deed restriction placed on title that conforms to the Section 542(c) statutory definition.

12. A Property Capital Needs Assessment (PCNA) must be performed, and funds escrowed for all necessary repairs, and reserves funded for future capital needs; and

13. For projects subsidized by Section 8 Housing Assistance Payment (HAP) contracts:

i. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time Housing Opportunities Commission of Montgomery County determines that a project's excess funds (surplus cash) after project operations, reserve requirements and permitted distributions are met, Housing Opportunities Commission of Montgomery County must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

• Regulation: 24 CFR 266.410(e).

Project/Activity: Illinois Housing Development Authority (IHDA) no project name or number listed.

Nature of Requirement: The 24 CFR 266.410(e), which requires mortgages insured under the 542(c) Housing Finance Agency Risk Sharing Program to be fully amortized over the term of the mortgage. The waiver would permit IHDA to use balloon loans that would have a minimum term of 17 years and a maximum amortization period of 40 years for the projects identified in the “Multifamily Pipeline Projects”.

Granted By: Dana T. Wade, Assistant Secretary for Housing—Federal Housing Commissioner.

Date Granted: October 21, 2020.

Reason Waived: The waiver was granted to allow Illinois Housing Development Authority's (IHDA) clients additional financing options to their customers and to align IHDA business practices with industry standards, thus furthering the creation of a preservation of affordable housing throughout Illinois.

The regulatory waiver is subject to the following conditions:

1. The waiver is limited to thirty (30) transactions and expires on October 31, 2025.

2. Illinois Housing Development Authority must elect to take 50 percent or more of the risk of loss on all transactions.

3. Mortgages made under this waiver may have amortization periods of up to 40 years, but with a minimum term of 17 years.

4. All other requirements of 24 CFR 266.410—Mortgage Provision remain applicable. The waiver is applicable only to loans made under Illinois Housing Development Authority's Risk Sharing Agreement.

5. In accordance with 24 CFR 266.200(d), the mortgage may not exceed an amount supportable by the lower of the Section 8 or comparable unassisted rents.

6. Projects must comply with Davis-Bacon labor standards in accordance with 24 CFR 266.225.

7. Illinois Housing Development Authority must comply with regulations stated in 24 CFR 266.210 for insured advances or insurance upon completion transactions.

8. The loans exceeding $50 million require a separate waiver request.

9. Occupancy is no less than 93 percent for previous 12 months of the HFA loan to be refinanced.

10. No defaults in the last 12 months of the HA loan to be refinanced.

11. A 20-year affordable housing deed restriction placed on title that conforms to the Section 542(c) statutory definition.

12. A Property Capital Needs Assessment (PCNA) must be performed, and funds escrowed for all necessary repairs, and reserves funded for future capital needs; and

13. For projects subsidized by Section 8 Housing Assistance Payment (HAP) contracts:

1. a: Owner agrees to renew HAP contract(s) for 20-year term, (subject to appropriations and statutory authorization, etc.), and b: In accordance with regulations in 24 CFR 883.306(e), and Housing Notice 2012-14—Use of “New Regulation” Section 8 Housing Assistance Payments (HAP) Contracts Residual Receipts of Offset Project-Based Section 8 Housing Assistance Payments, if at any time Illinois Housing Development Authority determines that a project's excess funds (surplus cash) after project operations, reserve requirements and permitted distributions are met, Illinois Housing Development Authority must place the excess funds into a separate interest-bearing account. Upon renewal of a HAP Contract the excess funds can be used to reduce future HAP payments or other project operations/purposes. When the HAP Contract expires, is terminated, or any extensions are terminated, any unused funds remaining in the Residual Receipt Account at the time of the contract's termination must be returned.

• Regulation: 24 CFR 3282.14(b).

Project/Activity: Manufactured Housing Production, Nationwide.

Nature of Requirement: The Office of Manufactured Housing Programs (OMHP) received several individual requests through the Alternative Construction (AC) process outlined in the Code of Federal Regulations (CFR) at 24 CFR 3282.14. This regulation requires each manufacturer to submit a request for Alternative Construction consideration. Rather, OMHP provided an Alternative Construction approval that may be used by any manufacturer experiencing supply chain issues for 25 ampere circuit breakers with code compliant water heater appliances.

Granted By: Dana T. Wade, Assistant Secretary for Housing—Federal Housing.

Date Granted: December 18, 2020.

Reason Waived: In order to resolve this matter for the whole industry in an expedient manner while protecting the health and safety of consumers and maintaining durability of the homes, a regulatory waiver of 24 CFR 3282.14(b), Request for Alternative Construction, provides resolution for all affected manufacturers. This temporary regulatory waiver of 24 CFR 3282.14(b) allows OMHP to issue the industry-wide AC Letter that allows 25 ampere circuit breakers with code compliant water heater appliances to be used for the construction of HUD Code-compliant manufactured homes through June 30, 2021.

Contact: Jason McJury, Deputy Administrator, Office of Manufactured Housing Programs, Office of Housing, Department of Housing and Urban Development, 451 Seventh Street SW, Room 9170, Washington, DC 20410, telephone (202) 402-2480.

III. Regulatory Waivers Granted by the Office of Public and Indian Housing

For further information about the following regulatory waivers, please see the name of the contact person that immediately follows the description of the waiver granted.

• Regulation: 24 CFR 982.517; 24 CFR 983.301(f)(2)(ii).

Project/Activity: Housing Authority of the City of San Buenaventura (HACSB) requested a project-specific utility allowance for a Project Based Voucher (PBV) project.

Nature of Requirement: For the Housing Choice Voucher (HCV) program, 24 CFR 982.517 requires that a PHA maintain a utility allowance schedule for all tenant-paid utilities, and the utility allowance schedule must be determine based on the typical cost of utilities and services paid by energy-conserving households that occupy units of similar size and type in the same locality. For the PBV program, 24 CFR 983.301(f)(2)(ii) requires that PHAs may not establish or apply different utility allowance amounts for the PBV program, and that the same PHA utility allowance schedule applies to both the tenant-based and PBV programs.

Granted By: R. Hunter Kurtz, Assistant Secretary for Public and Indian Housing.

Date Granted: November 18, 2020.

Reason Waived: The PHA requested a waiver to establish a site-specific utility allowance for a PBV project and provided justification for the request. The PHA submitted an analysis of utility rates for the community and consumption data of project residents. Due to the energy efficient upgrades at the project, the community consumption estimates are significantly higher than the consumption expected at the site. The PHA demonstrated good cause that the utility allowance provided under the HCV program would discourage conservation and ultimately lead to inefficient use of HAP funds at the PBV project. Thus, pursuant to the waiver authority provided at 24 CFR 5.110, HUD determined that there was good cause to waive 24 CFR 983.301(f)(2)(ii) and 24 CFR 982.5 17.

Contact: Danielle Bastarache, Deputy Assistant Secretary for Office of Public Housing and Voucher Programs, Office of Public and Indian Housing, Department of Housing and Urban Development, 451 Seventh Street SW, Room 4204, Washington, DC 20410, telephone (202) 402-5264.

• Regulation: 24 CFR 983.3.

Project/Activity: The New York City Housing Authority (NYCHA) is undertaking a large-scale preservation of 1,718 units across sixteen (16) project sites in Manhattan, commonly known as the Permanent Affordability Commitment Together (PACT) Manhattan Bundle (the “Redevelopment”). For the purposes of determining the number of Housing Assistance Payments (HAP) contracts required to be used for the Redevelopment, NYCHA requested the use of an alternative definition of “project” in order to be operationally efficient, reduce administrative burden, and overcome potential confusion for property management.

Nature of Requirement: “Project” is defined in PBV regulations at 24 CFR 983.3 as a single building, multiple contiguous buildings, or multiple buildings on contiguous parcels of land. Contiguous in the definition of project includes “adjacent to,” and touching along a boundary or a point. PHAs may define a PBV project in their administrative plan within the bounds of the regulatory definition.

Granted By: R. Hunter Kurtz, Assistant Secretary, Public and Indian Housing.

Date Granted: November 23, 2020.

Reason Waived: NYCHA proposed an alternative definition of “project” that would group any buildings within a radius of approximately eight blocks for the purpose of placing them under individual HAP Contracts. Due to the nature of NYCHA's public housing developments, which often include multiple buildings over several blocks, the subject regulations would require NYCHA to enter into multiple HAP Contracts for each public housing project and/or building undergoing conversion. For the Redevelopment, without the regulatory waiver, NYCHA would be required to execute 25 HAP Contracts (RAD and non-RAD PBV combined), despite several of the buildings being closely clustered and currently administered as a single project under the public housing program. Through the waiver, NYCHA would reduce the number of overall HAP contracts for the Redevelopment from twenty-five to thirteen RAD and non-RAD PBV HAP Contracts. In addition, due to the magnitude of the NYCHA Section 8 program, the proposed grouping would save an estimated 11,000 hours of staff time and cost during construction, 540 hours on monthly administration, and 720 hours on additional annual administration. Therefore, HUD determined good cause to waive 24 CFR 983.3 so that NYCHA may use the proposed definition of project for the PACT Manhattan Bundle that includes the 16 sites and 1,718 units identified in the waiver request.

Contact: Danielle Bastarache, Deputy Assistant Secretary, Office of Public Housing and Voucher Programs, Office of Public and Indian Housing, Room 4204, Department of Housing and Urban Development, 451 Seventh Street SW, Room 4204, Washington, DC 20410, telephone (202) 402-5264.

• Regulation: 24 CFR 983.51(b)(1).

Project/Activity: Ark-Tex Council of Governments (ATCOG), a partner voucher agency, requested a waiver to award PBVs to a Public Housing project that repositioned through a Section 22 Streamlined Voluntary Conversion (SVC) action approved by HUD on June 24, 2020.

Nature of Requirement: 24 CFR 983.51(b)(1) requires a Public Housing Agency (PHA) to award Project-Based Vouchers (PBVs) via a competitive selection.

Granted By: R. Hunter Kurtz, Assistant Secretary, Public and Indian Housing.

Date Granted: November 18, 2020.

Reason Waived: The Mount Pleasant Housing Authority (MPHA) is the Public Housing-only agency that received the SVC approval for the 145 units, which comprise MPHA's entire Public Housing portfolio. Under the SVC approval, MPHA is required to ensure that the 145 units at the property are developed and operated as affordable housing for low-income families with incomes at or below 80 percent of area median income for not less than 30 years. To accomplish this, MPHA proposed to place the property under a PBV Housing Assistance Payments (HAP) contract. However, since ATCOG does not have an ownership interest in the project, the Housing Opportunity Through Modernization Act requirements for non-competitive selection, as detailed in PIH 2017-21, Attachment L, are not met. ATCOG serves nine northeast Texas counties and one southwest Arkansas county, covering over 6,400 square miles. Based on this, ATCOG expected that there is a strong likelihood that the PBVs could be awarded to a project other than MPHA's converted project. Thus, HUD determined good cause to waive 24 CFR 983.51(b)(1) so that ATCOG may select MPHA's Section 22 SVC-approved project for an award of PBVs without following a competitive process.

Contact: Danielle Bastarache, Deputy Assistant Secretary for Office of Public Housing and Voucher Programs, Office of Public and Indian Housing, Department of Housing and Urban Development, 451 Seventh Street SW, Room 4204, Washington, DC 20410, telephone (202) 402-5264.

• Regulation: 24 CFR 983.152(c).

Project/Activity: Massachusetts Department of Housing and Community Development (MDHCD) requested to allow environmental remediation activities required by the Massachusetts Department of Environmental Protection (MDEP) commence at a project prior to an Agreement to Enter into a Housing Assistance Payment (AHAP) contract.

Nature of Requirement: 24 CFR 983.152(c) requires that a public housing agency (PHA) may not enter into an AHAP contract if construction or rehabilitation has commenced after proposal submission.

Granted By: R. Hunter Kurtz, Assistant Secretary, Public and Indian Housing.

Date Granted: November 18, 2020.

Reason Waived: The Haywood Homes project consists of construction of 55 new housing units for Section 18 disposition. As part of the disposition review process and planning activities for the project, Newton Housing Authority (NHA) discovered that the property contains a concentration of mercury that exceeds the reporting threshold under the Massachusetts Contingency Plan and the project was subject to required reporting and remediation. The scope of the environmental remediation and related work is specified in an engineering report dated May 20, 2020. NHA has been unable to enter into an AHAP with the project owner because various key proposed financing awards and commitments are still ongoing for the subsidy layering review (SLR). Project-based voucher (PBV) program regulations require the completion of an SLR prior to AHAP execution (24 CFR 983.55(b)). Therefore, HUD determined good cause to waive 24 CFR 983.152(c) so that the work identified in the May 20, 2020 engineering report may be performed, prior to entering into an AHAP for the Haywood Homes project.

Contact: Danielle Bastarache, Deputy Assistant Secretary for Office of Public Housing and Voucher Programs, Office of Public and Indian Housing, Department of Housing and Urban Development, 451 Seventh Street SW, Room 4204, Washington, DC 20410, telephone (202) 402-5264.

• Regulation: 24 CFR 983.152(c).

Project/Activity: Cuyahoga Metropolitan Housing Authority requested to allow their development partners to commence certain remediation activities prior to an Agreement to Enter into a Housing Assistance Payment (AHAP) contract.

Nature of Requirement: 24 CFR 983.152(c) requires that a public housing agency (PHA) may not enter into an AHAP contract if construction or rehabilitation has commenced after proposal submission.

Granted By: R. Hunter Kurtz, Assistant Secretary, Public and Indian Housing.

Date Granted: November 9, 2020.

Reason Waived: On January 9, 2020, the CMHA's Board of Commissioners authorized the award of 60 PBVs for the redevelopment of a project, known as the Blanket Mills project. On March 29, 2020, a severe storm partially collapsed an adjoining building that now needs to be demolished (Piano building), and according to an engineering report dated April 2, 2020, the main building (Blanket Mills building) needs to be preserved/restored and made weather tight until anticipated restoration work can begin. CMHA has been unable to enter into an AHAP with the project owner because various key proposed financing awards and commitments are still ongoing for the subsidy layering review (SLR). Project-based voucher (PBV) program regulations require the completion of an SLR prior to AHAP execution (24 CFR 983.55(b)). Therefore, HUD determined good cause to waive 24 CFR 983.152(c) so that the work identified in the April 2, 2020 engineering report may be performed, prior to CMHA entering into an AHAP for the rehabilitation of the Blanket Mills main building.

Contact: Danielle Bastarache, Deputy Assistant Secretary for Office of Public Housing and Voucher Programs, Office of Public and Indian Housing, Department of Housing and Urban Development, 451 7th Street SW, Room 4204, Washington, DC 20410, telephone (202) 402-5264.

HUD's Summary of CARES Act Notices Providing Waivers: 10/1/20 to 12/31/20

Authority: Coronavirus Aid, Relief, and Economic Security Act (CARES Act) and regulatory waiver authority is also provided by 24 CFR 5.110 and 91.600.

CARES Act Waiver: PIH Notice 2020-13, HCV-4; 24 CFR 982.305(c).

Description: The Southern Nevada Regional Housing Authority (SNRHA) requested a waiver for five cases in which the HAP Contract was executed more than 120 days after the lease start date (the regulatory requirement is 60 days and the alternative requirement in the CARES Act Waiver Notice is 120 days). The delay was due to staffing issues and unforeseen circumstances related to COVID-19.

Authority: 24 CFR 982.305(c)(4) states that any Housing Assistance Payment (HAP) Contract executed more than 60 days after the lease term begins will be void and the public housing agency (PHA) may not pay any HAP to the owner. PIH Notice 2020-13: COVID-19 Statutory and Regulatory Waivers and Alternative Requirements for the Public Housing, Housing Choice Voucher, Indian Housing Block Grant and Indian Community Development Block Grant programs, Suspension of Public Housing Assessment System and Section Eight Management Assessment Program, Revision 1, provided an alternative requirement for 24 CFR 982.305(c), provides an alternative requirement that HAP Contracts must be executed within 120 days, instead of 60 days, to provide additional time due to the impact of the coronavirus on PHA operations.

Granted By: R. Hunter Kurtz, Assistant Secretary, Public and Indian Housing.

Date Granted: November 18, 2020.

Purpose/Reason Waived: SNRHA requested a waiver for five cases in which the HAP Contract was executed more than 120 days after the lease start date due to staffing issues and unforeseen circumstances related to COVID-19. In the waiver request, SNRHA provided specific details regarding the circumstances of the delay in executing the HAP Contract for each case. SNRHA also provided details regarding their operations during COVID-19, stating that the agency is operating at a 68 percent staffing rate and 15 employees were absent due to COVID-19 exposure or diagnosis. The information SNRHA submitted to the Department provided justification for the request. HUD determined that there was good cause to waive 24 CFR 982.305(c)(4) for the five cases listed in the PHA's waiver request based on the specific data provided on the agency's staffing challenges related to COVID-19. This waiver applied only to the five cases listed in the request and did not extend to future cases.

Contact: Danielle Bastarache, Deputy Assistant Secretary, Office of Public Housing and Voucher Programs, Room 4204, Department of Housing and Urban Development.

[FR Doc. 2021-11616 Filed 6-2-21; 8:45 am]

BILLING CODE 4210-67-P